DEPARTMENT OF LABOR

Employment and Training Administration

[TA-W-65,626]

Russell Brands, LLC, Coosa River Yarn Division, Wetumpka, AL; Notice of Termination of Investigation

In accordance with Section 221 of the Trade Act of 1974, as amended, an investigation was initiated on March 18, 2009 in response to a petition filed by a company official on behalf of workers of Russell Brands, LLC, Coosa River Yarn, Wetumpka, Alabama.

The petitioner has requested that the petition be withdrawn. Consequently, the investigation has been terminated.

Signed in Washington, DC, this 1st day of April, 2009
Richard Church,
Certifying Officer, Division of Trade Adjustment Assistance.

[FR Doc. E9-10388 Filed 5-5-09; 8:45 am]

BILLING CODE 4510-FN-P